NATIONAL ARCHIVES AND RECORDS ADMINISTRATION

Agency Information Collection Activities: Submission for OMB Review; Comment Request

AGENCY: National Archives and Records Administration (NARA).

ACTION: Notice.

SUMMARY: NARA is giving public notice that the agency has submitted to OMB for approval the information collection described in this notice. The public is invited to comment on the proposed information collection pursuant to the Paperwork Reduction Act of 1995.

DATES: Written comments must be submitted to OMB at the address below on or before March 31, 2006 to be assured of consideration.

ADDRESSES: Send comments to Desk Officer for NARA, Office of Management and Budget, New Executive Office Building, Washington, DC 20503; fax: 202-395-5167.

FOR FURTHER INFORMATION CONTACT: Requests for additional information or copies of the proposed information collection and supporting statement should be directed to Tamee Fechhelm at telephone number 301-837-1694 or fax number 301-837-3213.

SUPPLEMENTARY INFORMATION: Pursuant to the Paperwork Reduction Act of 1995 (Pub. L. 104-13), NARA invites the general public and other Federal agencies to comment on proposed information collections. NARA published a notice of proposed collection for this information collection on December 7, 2005 (70 FR 72860 and 72861). No comments were received. NARA has submitted the described information collection to OMB for approval.

In response to this notice, comments and suggestions should address one or more of the following points: (a) Whether the proposed information collection is necessary for the proper performance of the functions of NARA; (b) the accuracy of NARA's estimate of the burden of the proposed information collection; (c) ways to enhance the quality, utility, and clarity of the information to be collected; and (d) ways to minimize the burden of the collection of information on respondents, including the use of information technology; and (e) whether small businesses are affected by this collection. In this notice, NARA is soliciting comments concerning the following information collection:

Title: Online Reproduction Orders for National Archives Records.

OMB number: 3095-NEW.

Agency form number: N/A.

Type of review: Regular.

Affected public: Individuals or households.

Estimated number of respondents: 13,270.

Estimated time per response: 10 minutes.

Frequency of response: On occasion.

Estimated total annual burden hours: 2,680 hours.

Abstract: In December, 2003, NARA launched Order Online!, its online ordering mechanism. With the availability of an Internet-based ordering system (Order Online!), NARA has made accessible online certain reproduction order forms (replicas of the NATF Series 80 Forms and the NATF 36). In the near future, NARA plans to make available custom orders for the remaining types of reproduction services, to allow researchers to submit reproduction orders and remit payment electronically.

The information that NARA proposes to collect for quoted reproduction orders includes the descriptive information (information necessary to search for the records), payment information (e.g., credit card type, credit card number, and expiration date), customer name, shipping and billing address, and phone number. NARA also proposes to offer customers the option of submitting their e-mail address as a means of facilitating communication such as order confirmation, status updates, and issue handling.

Dated: February 22, 2006.
Martha Morphy,
Acting Assistant Archivist for Information Services.

[FR Doc. E6-2835 Filed 2-28-06; 8:45 am]

BILLING CODE 7515-01-P